DEPARTMENT OF COMMERCE

National Oceanic and Atmospheric Administration

[I.D. 121603A]

Magnuson-Stevens Act Provisions; General Provisions for Domestic Fisheries; Application for Exempted Fishing Permits; Correction

AGENCY: National Marine Fisheries Service (NMFS), National Oceanic and Atmospheric Administration (NOAA), Commerce.

ACTION: Notice; correction.

SUMMARY: On September 27, 2004, NMFS announced that the Assistant Regional Administrator, Northeast Region, NOAA Fisheries (Assistant Regional Administrator) was proposing to issue Exempted Fishing Permits (EFPs) in response to an application submitted by the University of Rhode Island, Department of Fisheries, Animal and Veterinary Science (URI). These EFPs would allow three commercial fishing vessels to conduct a bycatch reduction study in the directed haddock bottom trawl fishery, using side-by-side tows to compare the control net with one experimental large-mesh net. The Federal Register notification announcing these EFPs had an incorrect end date of November 2005. This notice is intended to inform the public that the corrected end date is December 2005.

DATES: Written comments on this action must be received on or before April 11, 2005.

ADDRESSES: Comments on this notice may be submitted by e-mail to: DA640@noaa.gov. Written comments may also be sent to: Patricia A. Kurkul, Regional Administrator, NMFS, NE Regional Office One Blackburn Drive, Gloucester, MA 01930. Mark the outside of the envelope “Comments on Bycatch EFP Proposal.” Or, comments may be sent via fax to: 978-281-9135.

FOR FURTHER INFORMATION CONTACT: Heather Sagar, Fishery Management Specialist, phone: 978-281-9341, fax: 978-281-9135, e-mail: heather.sagar@noaa.gov.

SUPPLEMENTARY INFORMATION:

Background

On September 27, 2004 (69 FR 57676), NMFS published notification in the Federal Register announcing the receipt of an application for an EFP to conduct a study to determine if an experimental trawl gear would achieve a reduction in cod bycatch significant enough to warrant consideration as a Special Access Program (SAP) under provisions in Amendment 13 to the Northeast Multispecies Fishery Management Plan (FMP). The Federal Register notice indicated the end date for the study would be November 2005. The 15-day comment period on the proposed EFP closed on October 12, 2004, and NMFS recently issued EFPs to the applicant that indicated that the study would be concluded on November 30, 2005. Upon receipt of the EFPs, the applicant informed NMFS that an incorrect end date was cited in the EFP and the Federal Register notice. This notification corrects the end date to read December 2005.

An Environmental Assessment (EA) was originally prepared for the proposed study that analyzed the impacts of the proposed experimental fishery on the human environment. The EA analyzed the impacts of the proposed experimental fishery on the human environment including the month of December. The EA concluded that the activities proposed to be conducted under the requested EFPs are consistent with the goals and objectives of the FMP, would not be detrimental to the well-being of any stocks of fish harvested, and would have no significant environmental impacts. The EA also concluded that the experimental fishery would not be detrimental to essential fish habitat, marine mammals, or protected species. The “Finding of No Significant Impact” contained in the EA was signed by the Assistant Administrator for Fisheries on March 8, 2005.

Through this notice, NMFS informs the public that the end date contained in the September 27, 2004, Federal Register notification (69 FR 57676) contained an error. The document should have identified the end date as December 2005. NMFS also informs the public that NMFS intends to re-issue EFPs containing the correct end date. However, because the original Federal Register document contained the incorrect end date that may have caused confusion, NMFS is inviting comments on the revision to the EFPs. Should NMFS receive substantive comments on EFPs, NMFS may reconsider whether issuance of, modification to, or rescission of the EFPs would be appropriate.

Therefore, on page 57676, column 3, last full paragraph, the end date provided in the sixth line remove “November 2005” and in its place insert “December 2005”.

Authority: 16 U.S.C. 1801 et seq.

Dated: March 21, 2005.
Alan D. Risenhoover,
Acting Director, Office of Sustainable Fisheries, National Marine Fisheries Service.

[FR Doc. E5-1300 Filed 3-24-05; 8:45 am]

BILLING CODE 3510-22-S